DEPARTMENT OF ENERGY

Federal Energy Regulatory Commission

[Docket No. CP15-77-000]

Tennessee Gas Pipeline Company, L.L.C.; Notice of Schedule for Environmental Review of the Broad Run Expansion Project

On January 30, 2015, Tennessee Gas Pipeline Company, L.L.C. (Tennessee) filed an application in Docket No. CP15-77-000 pursuant to sections 7(b) and 7(c) of the Natural Gas Act, requesting a certificate of public convenience and necessity to construct, operate, and maintain certain natural gas pipeline facilities, and authorization to abandon certain facilities, collectively known as the Broad Run Expansion Project (Project). The Project purpose is to provide an additional 200,000 dekatherms per day of firm incremental transportation service through construction of new compressor stations and replacement of compression facilities in West Virginia, Kentucky; and Tennessee.

On February 12, 2015, the Federal Energy Regulatory Commission (Commission or FERC) issued its Notice of Application for the Project. The notice alerted agencies responsible for issuing federal authorizations of the requirement to complete necessary reviews and reach a final decision on a request for a federal authorization within 90 days of the date of issuance of the Environmental Assessment (EA) prepared by Commission staff. This Notice of Schedule identifies the Commission staff's planned schedule for the completion of the EA for the Project.

Schedule for Environmental Review

Issuance of EA March 11, 2016

90-day Federal Authorization Decision Deadline June 9, 2016

If a schedule change becomes necessary, additional notice will be provided so the relevant agencies are kept informed of the Project's progress.

Project Description

Tennessee proposes to build four new compressor stations and add compression at two existing compressor stations. Tennessee also proposes to improve efficiency and reduce certain emissions by replacing older existing compression facilities on its system with newer compressor units.

The Project would include construction and operation of the following facilities:

• Two new compressor stations in Kanawha County, West Virginia, to be known as the Tyler Mountain Compressor Station (CS 118A) and the Rocky Fork Compressor Station (CS 119A);

• a new compressor station in Madison County, Kentucky, to be known as the Richmond Compressor Station (CS 875);

• a new compressor station in Davidson County, Tennessee, to be known as the Pinnacle Compressor Station (CS 563); and

• modifications (including abandonment and replacement of certain compression units, system components, and associated facilities) at the existing Clay City Compressor Station in Powell County, Kentucky (CS 106), and the existing Catlettsburg Compressor Station in Boyd County, Kentucky (CS 114).

Background

On May 1, 2015, the Commission issued a Notice of Intent to Prepare an Environmental Assessment for the Proposed Broad Run Expansion Project and Request for Comments on Environmental Issues (NOI). The NOI was sent to affected landowners; federal, state, and local government agencies; elected officials; environmental and public interest groups; Native American tribes; other interested parties; and local libraries and newspapers. In response to Tennessee's application and the NOI, the Commission received comments from many affected landowners, interested individuals and organizations, elected officials, and agencies. Commentors included U.S. Representative Andy Barr, Kentucky State Representative Terry Mills, U.S. Fish and Wildlife Service, Kentucky Department for Environmental Protection, Madison County Fiscal Court, Allegheny Defense Project, Concerned Citizens for a Safe Environment, Freshwater Accountability Project, Heartwood, Ohio Valley Environmental Coalition, Tennessee Valley Authority, ByFaith Farm LLC, and Walden's Puddle Wildlife Rehabilitation Center.

The primary issues raised by the commentors included concerns about potential impacts on organic farms and wildlife, including Walden's Puddle Wildlife Rehabilitation Center; air quality and noise impacts; public safety; and aspects of the FERC process.

Additional Information

In order to receive notification of the issuance of the EA and to keep track of all formal issuances and submittals in specific dockets, the Commission offers a free service called eSubscription. This can reduce the amount of time spent researching proceedings by automatically providing notification of these filings, document summaries, and direct links to the documents. Go to www.ferc.gov/docs-filing/esubscription.asp.

The FERC's eLibrary system can also be used to search formal issuances and submittals from the public docket. To use, select the “eLibrary” link, select “General Search” from the eLibrary menu located at www.ferc.gov/docs-filing/elibrary.asp, enter the selected date range and “Docket Number” excluding the last three digits (i.e., CP15-77), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Additional information about the Project is available from the Commission's Office of External Affairs at (866) 208-FERC or on the FERC Web site (www.ferc.gov).

Dated: December 18, 2015.
Nathaniel J. Davis, Sr.,
Deputy Secretary.

[FR Doc. 2015-32403 Filed 12-23-15; 8:45 am]

BILLING CODE 6717-01-P